ENVIRONMENTAL PROTECTION AGENCY

[FRL-8229-3]

Clean Water Act Section 303(d): Final Agency Action on Eighty Total Maximum Daily Loads (TMDLs)

AGENCY: Environmental Protection Agency (EPA).

ACTION: Notice of availability.

SUMMARY: This notice announces final agency action on eighty TMDLs prepared by EPA Region 6 for waters listed in Louisiana's Red River, Sabine River, and Terrebonne Basins, under section 303(d) of the Clean Water Act (CWA). Documents from the administrative record file for the eighty TMDLs, including TMDL calculations and responses to comments, may be viewed at http://www.epa.gov/earth1r6/6wq/npdes/tmdl/index.htm. The administrative record file may be examined by calling or writing Ms. Diane Smith at the address below. Please contact Ms. Smith to schedule an inspection.

FOR FURTHER INFORMATION CONTACT: Diane Smith, Environmental Protection Specialist, Water Quality Protection Division, U.S. EPA Region 6, 1445 Ross Avenue, Dallas, TX 75202-2733, (214) 665-2145.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner. EPA established 63 of these TMDLs pursuant to a consent decree entered in this lawsuit.

EPA Takes Final Agency Action on Eighty TMDLs

By this notice EPA is taking final agency action on the following eighty TMDLs for waters located within the Louisiana river basins:

Subsegment | Waterbody name | Pollutant
100306 | Kelly Bayou—AR State Line to Black Bayou | Fecal Coliform.
100309 | Cross Bayou | Turbidity, TDS, Chloride, Sulfate, and TSS.
100406 | Flat River—Headwaters to Loggy Bayou | Fecal Coliform and TDS.
100602 | Boggy Bayou | Turbidity and Sedimentation/siltation.
100603 | Wallace Lake | Turbidity and Sedimentation/siltation.
100701 | Black Lake Bayou | Turbidity, TDS, and Sedimentation/siltation.
100704 | Kepler Creek | TDS.
100707 | Castor Creek—Headwaters to Black Lake Bayou | Fecal Coliform.
100708 | Unnamed Tributary to Castor Creek near Town of Castor | Sulfate and TDS.
100709 | Grand Bayou—Headwaters to Black Lake Bayou | Fecal Coliform.
100710 | Unnamed Tributary to Grand and Bayou near Town of Hall Summit | TDS, Chloride, Sulfate.
100801 | Saline Bayou—from its origin near Arcadia to LA Hwy 156 in Winn Parish (scenic) | Fecal Coliform.
100804 | Unnamed Tributary to Saline Bayou near Town of Arcadia | TDS and Sulfate.
100901 | Nantaches Creek—Headwaters to Nantaches Lake | Fecal Coliform.
101101 | Cane River—above Natchitoches to Red River | TDS and Chloride.
101103 | Bayou Kisatchie—entrance into Kisatchie National Forest to Old River (scenic) | Fecal Coliform and TDS.
101301 | Rigolette Bayou—Headwaters to Red River | Fecal Coliform.
101303 | Iatt Creek—Headwaters to Iatt Lake | TDS.
101401 | Buhlow Lake (Pineville) | Turbidity.
101601 | Bayou Cocodrie—from Little Cross Bayou to Wild Cow Bayou (scenic) | Turbidity.
110202 | Pearl Creek—from its origin to its entrance into Sabine River (scenic) | Fecal Coliform.
110401 | Bayou Toro—Headwaters to LA Hwy 473 | Fecal Coliform.
110402 | Bayou Toro—LA Hwy 473 to its entrance into Sabine River | Fecal Coliform.
110501 | West Anacoco Creek—Headwaters to Vernon Lake | Fecal Coliform.
110504 | Bayou Anacoco—Vernon Lake to Anacoco Lake | Fecal Coliform.
110601 | Vinton Waterway | Turbidity.
120101 | Bayou Portage | TDS, Chloride, Fecal Coliform, and TSS.
120102 | Bayou Poydras | Sediment, Sulfate, TDS, TSS, and Fecal Coliform.
120104 | Bayou Grosse Tete | Fecal Coliform and TDS.
120105 | Chamberlin Canal | Fecal Coliform, TSS, and Sediment.
120106 | Bayou Plaquemine | Turbidity.
120109 | Intracoastal Waterway | Fecal Coliform.
120110 | Bayou Cholpe | TDS and Sulfate .
120111 | Bayou Maringouin— and Headwaters to East Atchafalaya Basin Levee | Fecal Coliform TDS.
120112 | Bayou Fordoche | Fecal Coliform and TDS.
120201 | Lower Grand River and Belle River | Fecal Coliform and Sulfate.
120206 | Grand Bayou and Little Grand Bayou | Fecal Coliform.
120301 | Bayou Terrebonne | Fecal Coliform.
120502 | Bayou Grand Caillou | Fecal Coliform.
120503 | Bayou Petit Caillou | Fecal Coliform.
120504 | Bayou Petit Caillou | Fecal Coliform.
120506 | Bayou du Large | Fecal Coliform.
120507 | Bayou Chauvin | Fecal Coliform.
120508 | Houma Navigation Canal | Fecal Coliform.
120602 | Bayou Terrebonne | Fecal Coliform.
120605 | Bayou Pointe au Chien | Fecal Coliform.
120606 | Bayou Blue | Fecal Coliform.
120701 | Bayou Grand Caillou | Fecal Coliform.
120703 | Bayou du Large | Fecal Coliform.
120707 | Lake Boudreaux | Fecal Coliform.
120708 | Lost Lake, Four League Bay | Fecal Coliform.

.

EPA requested the public to provide EPA with any significant data or information that might impact the eighty TMDLs in the Federal Register Notice: Volume 71, Number 139, pages 41217-41218 (July 20, 2006). The comments received and the EPA's response to comments may be found at http://www.epa.gov/earth1r6/6wq/npdes/tmdl/index.htm.

EPA received requests from the Gulf Restoration Network and six individuals for a 60-day extension of the comment period on the eighty draft TMDLs in Louisiana. EPA will not extend the original comment period, however, the Gulf Restoration Network and others may submit comments after the closing date (i.e., August 21, 2006) of the comment period until October 20, 2006. EPA will review and respond to comments received between August 22, 2006, and October 20, 2006, and may consider revising or modifying these TMDLs if appropriate.

Dated: September 28, 2006.
Miguel I. Flores,
Director, Water Quality Protection Division, EPA Region 6.

[FR Doc. E6-16652 Filed 10-6-06; 8:45 am]

BILLING CODE 6560-50-P